DEPARTMENT OF HEALTH AND HUMAN SERVICES

Office of the Secretary

Delegation of Authority

Notice is hereby given that I have delegated to the Office of the Inspector General (OIG) the acquisition administrative authorities of the Secretary, except the authority to approve and issue HHS Acquisition Regulations.

In addition, by the authority vested in the Secretary by section 1702 of Title 41 pf the United States Code (Pub. L. 111-350, § 3, Jan. 4, 2011), I have designated; (a) the Inspector General as the OIG Chief Acquisition Officer; and (b) the Principal Deputy Inspector General as OIG Senior Procurement Executive.

I also delegate to the Inspector General the authority under section 1705 of Title 41 of the United States Code (Pub. L. 111-350, § 3, Jan. 4, 2011) to designate a competition advocate for OIG. The authorities may be re-delegated to the extent permitted by law.

With respect to the HHS Acquisition Regulations only, the Inspector General will be considered an OPDIV head for the purposes of the December 21, 1994, delegation from the Secretary to the OPDIV heads to approve and issue noncontroversial regulations.

Exercise of these authorities shall be in accordance with established policies, procedures, guidelines, and regulations as prescribed by the Secretary.

This delegation is effective on the date of signature.

Dated: June 16, 2016.
Sylvia M. Burwell,
Secretary.

[FR Doc. 2016-14802 Filed 6-21-16; 8:45 am]

BILLING CODE 4152-01-P